FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than January 15, 2025.

A. Federal Reserve Bank of Atlanta

(Erien O. Terry, Assistant Vice President) 1000 Peachtree Street NE, Atlanta, Georgia 30309. Comments can also be sent electronically to Applications.Comments@atl.frb.org:

1. Dominik Mjartan and Georgia Miller Mjartan, both of Columbia, South Carolina; as a group acting in concert, to acquire voting shares of American Bancorp, Inc., and thereby indirectly acquire voting shares of American Pride Bank, both of Macon, Georgia.

B. Federal Reserve Bank of Kansas City

(Jeffrey Imgarten, Assistant Vice President) 1 Memorial Drive, Kansas City, Missouri 64198-0001. Comments can also be sent electronically to KCApplicationComments@kc.frb.org:

1. The DLS SFG Marital Trust UTA The Donald L. Sturm Trust dated 4/22/1994, as amended, and The Donald L. Sturm SFG Trust UTA The Donald L. Sturm Trust dated 4/22/1994, as amended, Susan M. Sturm, Stephen F. Sturm, and Emily S. Ehrens as co-trustees of both trusts, all of Denver, Colorado; to join the Sturm Family Control Group, a group acting in concert, to retain voting shares of Sturm Financial Group, Inc., and thereby indirectly retain voting shares of ANB Bank, both of Denver, Colorado. Susan M. Sturm, Stephen F. Sturm, and Emily S. Ehrens, all individually, were previously permitted by the Reserve Bank to become members of the Sturm Family Control Group.

Board of Governors of the Federal Reserve System.
Yao-Chin Chao,
Deputy Associate Secretary of the Board.

[FR Doc. 2024-31414 Filed 12-30-24; 8:45 am]

BILLING CODE P